DEPARTMENT OF AGRICULTURE

Forest Service

Idaho Panhandle/Kootenai/Lolo National Forests; Lincoln and Sanders Counties, MT; Boundary and Bonner Counties, ID; and Pend Oreille County, WA; Forest Plan Amendments for Motorized Access Management within the Selkirk and Cabinet-Yaak Grizzly Bear Recovery Zones

AGENCY: Forest Service, USDA.

ACTION: Notice of intent to prepare a supplemental environmental impact statement to amend land and resource management plans for the Idaho Panhandle, Kootenai and Lolo National Forests.

SUMMARY: The Forest Service will prepare a Supplemental Environmental Impact Statement (SETS) for Motorized Access Management within the Selkirk and Cabinet-Yaak Grizzly Bear Recovery Zones to present additional information on grizzly bear mortality and population trends and account for uncertainty in relevant grizzly bear research. The SEIS will include a detailed analysis of Alternative D Modified and Alternative E that reflect the current condition of habitat security for grizzly bears. The Notice of Availability of the Draft EIS was published in the Federal Register (66 FR 57717) on November 16, 2001 and notice of the Final EIS (67 FR 11692) was published on March 15, 2002. On March 24, 2004, the Record of Decision (ROD) was signed that amended the Forest Plans for the Kootenai, Lolo and Idaho Panhandle National Forests. The ROD amended the objectives, standards, and guidelines that address grizzly bear management within the Selkirk and Cabinet-Yaak Grizzly Bear Recovery Zones.

Alternative E was selected for implementation, with the incorporation of terms and conditions of the U.S. Fish and Wildlife Service's (USFWS) Biological Opinion.

On December 13, 2006, U.S. District Court Judge Donald Molloy ruled against the U.S. Forest Service and the U.S. Fish and Wildlife Service in a lawsuit brought by the Cabinet Resource Group, Great Bear Foundation, Idaho Conservation League, Natural Resources Defense Council, and Selkirk Conservation Alliance. Judge Molloy ordered that the 2002 Final Environmental Impact Statement and 2004 Record of Decision be set aside as contrary to law and that the matter be remanded to the Forest Service for preparation of a new environmental analysis that complies with 40 CFR 1502.22 (a) and (b). As a result of an action considered no longer valid, on May 17, 2007, the USFWS withdrew its Biological Opinion for the Forest Service's proposed action.

DATES: Scoping is not required for supplements to environmental impact statements (40 CFR 1 502.9(c)(4)). There was extensive public involvement in the development of the proposed action, the 2001 Draft ETS and the 2002 Final EIS, and the Forest Service is not inviting comments at this time. The agency expects to file a Draft SETS with the Environmental Protection Agency (EPA) and make it available for public, agency and tribal government comment in July 2008. A Final SETS is expected to be filed in April 2009.

ADDRESSES: Send written comments to Paul Bradford, Forest Supervisor, Kootenai National Forest, 31374 U.S. Hwy 2 West, Libby, MT 59923-3022.

FOR FURTHER INFORMATION CONTACT: Kirsten Kaiser, Grizzly Bear Access Amendment Interdisciplinary Team Leader (406) 283-7659.

Responsible Officials: Ranotta McNair, Idaho Panhandle National Forests-Forest Supervisor; Paul Bradford, Kootenai National Forest-Forest Supervisor; and Deborah Austin, Lob National Forest-Forest Supervisor.

SUPPLEMENTARY INFORMATION: The Forest Service will supplement the Final EIS for Motorized Access Management within the Selkirk and Cabinet-Yaak Grizzly Bear Recovery Zones to respond to the December 2006 court order. The SEIS will incorporate best and current scientific information available on grizzly bear mortality and population trends and account for the Wakkinen study's authors' uncertainty for bears' studied habitat. The SEIS will include a detailed analysis of Alternative D Modified and Alternative E that reflect the current condition of habitat security for grizzly bears. The analysis will result in a new decision that amends the Forest Plans of the Kootenai, Lolo and Idaho Panhandle National Forests; and the values that address grizzly bear management within the Selkirk and Cabinet-Yaak Recovery Zones.

The SEIS and the supporting environmental documents will be programmatic and will examine the effects of setting predetermined levels of human (motorized) access within grizzly bear recovery zones. Site-specific decisions on individual roads or trails will be addressed in project-level planning.

Purpose and Need for Action

The purpose and need for action is to amend the three Forest Plans to include a set of motorized access and security guidelines that meet the agency's responsibilities under the Endangered Species Act to conserve and contribute to recovery of grizzly bears.

More specifically, there were needs to comply with: (1) The 1994 Interagency Grizzly Bear Committee (IGBC) Task Force Report; (2) the 1995 Amended Biological Opinion and Incidental Take Statements on the Kootenai and Lob National Forest Land and Resource Management Plans; (3) the 1995 decision by the Chief of the Forest Service on the Appeal of the Kootenai Forest Plan; and (4) the Stipulations of a 2001 Settlement Agreement in a Lawsuit Challenging Implementation of the Interim Rule Set developed by the Selkirk/Cabinet-Yaak Grizzly Bear Subcommittee of the IGBC.

The Forest Supervisors are proposing to amend their respective Forest Plans regarding Forest Plan standards and monitoring requirements that respond to the recommendations of the Interim Access Management Strategy and Interim Access Management Rule Set developed by the Selkirk/Cabinet-Yaak Subcommittee of the IGBC. The decision to be made is whether to adopt the preferred alternative as designed and identified as Alterative E in the 2004 Record of Decision (ROD), or with different requirements, or to select another alternative.

This amendment would result in a new appendix to the Idaho Panhandle and Lolo National Forest Land and Resource Management Plans (Forest Plans). It would result in an addendum to the Kootenai National Forest, Forest Plan, Appendix 8.

Copies of the environmental documents and 2004 ROD are available on the Kootenai National Forest internet Web site at: http://www.fs.fed.us/rl/kootenai/projects/planning/documents/forest_plan/amendments/index.shtml. Documents may also be requested by contacting Kirsten Kaiser, Team Leader, at 406-283-7659.

Preliminary Issues and Alternatives

Issues raised during the comment period on the DEIS centered around three main topics: (1) grizzly bear and best available science, specifically the science that was used in the environmental analysis and by the IGBC including the biological defensibility of the 55 percent Core, 33 percent OMRD and 26 percent TMRD standards; (2) reductions in motorized public access; and (3) impacts to employment and income.

Early Notice of Environmental Review

The Forest Supervisors are giving notice that the Idaho Panhandle, Kootenai, and Lolo National Forests are supplementing an existing environmental analysis for this proposed action so that interested or affected people can participate in the analysis and contribute to the final decision. The Forest Service is seeking comments from individuals, organizations, tribal governments, and Federal, State, and local agencies that are interested or may be affected by the proposed action. The draft SETS is intended to provide additional evaluation of current information on grizzly bears, and provide that information to the public. The public is invited to help identify issues and concerns related to the preferred alternative and the supplemental analysis documented in the draft SEIS.

Estimated Dates for Filing

The draft SEIS is expected to be filed with the EPA and to be available for public review in July 2008. The comment period on the draft SEIS will be 45 days from the date the EPA publishes the Notice of Availability in the Federal Register. The draft SEIS will be distributed to all parties that received the 2002 FEIS and Record of Decision as well as to those who expressed interest.

The final SEIS is scheduled to be completed by April 2009. In the final SEIS, the Forest Service is required to respond to comments received during the comment period that pertain to the environmental consequences discussed in the draft SEIS and applicable laws, regulations, and policies considered in making a decision regarding the proposal.

The Reviewer's Obligation To Comment

The Forest Service believes it is important to give reviewers notice at this early stage of several court rulings related to public participation in the environmental review process. First, reviewers of draft environmental impact statements must structure their participation in the environmental review of the proposal so that it is meaningful and alerts an agency to the reviewer's position and contentions [Vermont Yankee Nuclear Power Corp. v. NRDC, 435 U.S. 519, 553 (1978)]. Also, environmental objections that could be raised at the draft environmental impact statement stage but that are not raised until after completion of the final environmental impact statement may be waived or dismissed by the courts [Wisconsin Heritages, Inc. v. Harris, 490 F. Supp. 1334, 1338 (E.D. Wis. 1980)]. Because of these court rulings, it is very important that those interested in this proposed action participate by the close of the 90-day comment period so that comments and objections are made available to the Forest Service at a time when it can meaningfully consider them and respond to them in the final environmental impact statement.

To assist the Forest Service in identifying and considering issues and concerns on the preferred alternative and the supplemental analysis, comments on the draft SEIS should be as specific as possible. It is also helpful if comments refer to specific pages or sections of the draft SEIS. Reviewers may wish to refer to the Council on Environmental Quality Regulations for implementing the procedural provisions of the National Environmental Policy Act at 40 CFR 1503.3 in addressing these points.

Dated: May 1, 2008.
Paul Bradford,
Kootenai National Forest Supervisor

[FR Doc. E8-10408 Filed 5-12-08; 8:45 am]

BILLING CODE 3410-11-M